DEPARTMENT OF COMMERCE

International Trade Administration

[A-570-964; A-201-838]

Seamless Refined Copper Pipe and Tube From the People's Republic of China and Mexico: Preliminary Results of the Sunset Reviews of the Antidumping Duty Orders

AGENCY: Enforcement and Compliance, International Trade Administration, Department of Commerce.

SUMMARY: The Department of Commerce (“the Department”) preliminarily finds that revocation of the antidumping duty orders on seamless refined copper pipe and tube (“copper pipe and tube”) from the People's Republic of China (“PRC”) and Mexico would likely lead to continuation or recurrence of dumping, at the levels indicated in the “Preliminary Results of Sunset Reviews” section of this notice.

DATES: Effective Date: January 26, 2016.

FOR FURTHER INFORMATION CONTACT: Robert Galantucci, AD/CVD Operations, Office IV, Enforcement and Compliance, International Trade Administration, U.S. Department of Commerce, 14th Street and Constitution Avenue NW., Washington, DC 20230; telephone: (202) 482-2923.

SUPPLEMENTARY INFORMATION:

Background

On November 22, 2010, the Department published the antidumping duty orders on copper pipe and tube from the PRC and Mexico, as amended.¹ On October 1, 2015, the Department published the notice of initiation of the sunset reviews of the Orders pursuant to section 751(c) of the Tariff Act of 1930, as amended (the “Act”).² The Ad Hoc Coalition for Domestically Produced Seamless Refined Copper Pipe and Tube and its individual members, Cerro Flow Products, LLC, Wieland Copper Products, LLC, Howell Metal Company, Mueller Copper Tube Products, Inc., and Mueller Copper Tube Company, Inc. (collectively, “domestic interested parties”), submitted adequate and timely notices of intent to participate in these sunset reviews within the 15-day deadline specified in 19 CFR 351.218(d)(1)(i). On November 2, 2015, domestic interested parties and respondent interested party Golden Dragon ³ submitted adequate substantive responses to the notice of initiation within the 30-day deadline specified in 19 CFR 351.218(d)(3). As a result, pursuant to section 751(c)(3)(B) of the Act and 19 CFR 351.218(e)(ii), the Department is conducting full sunset reviews of the Orders.

¹ See Seamless Refined Copper Pipe and Tube From Mexico and the People's Republic of China: Antidumping Duty Orders and Amended Final Determination of Sales at Less Than Fair Value From Mexico, 75 FR 71070 (November 22, 2010) (“Orders”).

² See Seamless Refined Copper Pipe and Tube From China and Mexico; Institution of Five-Year Reviews, 80 FR 59186 (October 1, 2015) (“Initiation FR Notice”).

³ In case number A-570-964 (the PRC), the substantive response was filed on behalf of Golden Dragon Precise Copper Tube Group, Inc., Hong Kong GD Trading Co., Ltd., GD Copper Cooperatief UA, Golden Dragon Holding (Hong Kong) International, Ltd. and GD Copper (U.S.A.), Inc. In case number A-201-838 (Mexico), the substantive response was filed on behalf of GD Affiliates S. de R.L. de C.V., GD Copper S. de R.L. de C.V., Golden Dragon Precise Copper Tube Group, Inc., Hong Kong GD Trading Co., Ltd., GD Copper Cooperatief UA, Golden Dragon Holding (Hong Kong) International, Ltd. and GD Copper (U.S.A.), Inc. The Department refers to all of these companies collectively as “Golden Dragon”.

Scope of the Orders

For the purpose of these Orders, the products covered are all seamless circular refined copper pipes and tubes. The products subject to the Orders are currently classifiable under subheadings 7411.10.1030 and 7411.10.1090 of the Harmonized Tariff Schedule of the United States (“HTSUS”). Products subject to the Orders may also enter under HTSUS subheadings 7407.10.1500, 7419.99.5050, 8415.90.8065 and 8415.90.8085. Although the HTSUS subheadings are provided for convenience and customs purposes, the written description of the scope of the Orders is dispositive.

For a full description of the scope of the Orders, see the “Preliminary Decision Memorandum for the Full Sunset Reviews of the Antidumping Duty Orders on Seamless Refined Copper Pipe and Tube from the People's Republic of China and Mexico,” dated concurrently with this notice (“Preliminary Decision Memorandum”). The Preliminary Decision Memorandum is a public document and is on file electronically via Enforcement and Compliance's Antidumping and Countervailing Duty Centralized Electronic Service System (ACCESS). ACCESS is available to registered users at http://access.trade.gov. In addition, a complete version of the Preliminary Decision Memorandum can be accessed at http://enforcement.trade.gov/frn/. Both the signed and electronic versions of the Preliminary Decision Memorandum are identical in content.

Analysis of Comments Received

All issues raised in these sunset reviews are addressed in the Preliminary Decision Memorandum. The issues discussed in the Preliminary Decision Memorandum include the likelihood of continuation or recurrence of dumping and the magnitude of the margins likely to prevail if the Orders were to be revoked.

Preliminary Results of Sunset Reviews

Pursuant to section 752(c)(3) of the Act, the Department determines that revocation of the Orders would likely lead to continuation or recurrence of dumping at weighted-average dumping margins up to 60.85 percent for the PRC and up to 27.16 percent for Mexico.

We are issuing and publishing these results and notice in accordance with sections 751(c), 752(c), and 777(i)(1) of the Act and 19 CFR 351.218.

Dated: January 19, 2016.
Paul Piquado,
Assistant Secretary for Enforcement and Compliance.

Appendix—List of Topics Discussed in the Issues and Decision Memorandum

I. Summary

II. Background

III. History of the Orders

IV. Scope of the Orders

V. Discussion of the Issues

1. Likelihood of Continuation or Recurrence of Dumping

2. Magnitude of the Margins Likely to Prevail

VI. Preliminary Results of Sunset Reviews

VII. Recommendation

[FR Doc. 2016-01498 Filed 1-25-16; 8:45 am]

BILLING CODE 3510-DS-P